DEPARTMENT OF TRANSPORTATION

National Highway Traffic Safety Administration

[NHTSA Docket No. NHTSA-2006-xxxx]

Meeting Notice; Forum on Human Factors Research Necessary To Support Advanced Vehicle Safety Technologies

AGENCY: National Highway Traffic Safety Administration (NHTSA), DOT.

ACTION: Meeting notice.

SUMMARY: NHTSA announces a Forum on Human Factors Research Necessary to Support Advanced Vehicle Safety Technologies to be held in Falls Church, Virginia. This notice announces the date, time and location of the forum, which will be open to the public with advanced registration on a space-available basis.

DATES: The forum will be held on January 25, 2007, from 8:30 a.m. to 5 p.m. and continue on January 26, 2007 from 8:30 a.m. to noon.

ADDRESSES: The forum will be held at the Mitretek Systems Corporate Headquarters at 3150 Fairview Park Drive, Falls Church, VA 22042, telephone (202) 551-1112.

FOR FURTHER INFORMATION CONTACT: Michael Perel, Office of Human Vehicle Performance Research, National Highway Traffic Safety Administration, 400 Seventh Street, SW. Telephone number (202) 366-5675; e-mail Mike.Perel@dot.gov.

SUPPLEMENTARY INFORMATION: Advanced vehicle safety technologies (AVST), such as collision warning systems (CWS), can assist drivers in preventing crashes and minimizing harm. The controls, displays, and operation of AVST are fundamental elements that influence the safety effectiveness of these technologies. The ability of drivers to recognize, understand, and properly respond to the visual, auditory, and other feedback from these technologies is influenced by the degree to which their designs are compatible with drivers' capabilities. Proper designs will allow drivers to achieve the optimum safety benefit, whereas poor designs can limit or extinguish any advantage.

The purpose of this forum is to identify human factors research to help guide the development and deployment of AVST that can improve safety and minimize potential adverse effects. A diverse group of human factors and vehicle safety experts are expected to participate. The forum participants will discuss the impact of current and future AVST on safety and driving performance, outline high priority areas for research, and identify organizations to sponsor the research.

The primary focus of the forum will include current and emerging AVST systems such as those that provide only safety alerts (e.g., forward collision warning systems (FCW), road departure warning (RDCW), lane departure warning (LDW), intersection collision warning), systems that provide crash warning(s) and automated control (e.g., FCW combined with automatic braking), and other driver assistance systems that can impact safety (e.g., adaptive cruise control (ACC), brake assist, backover safety systems, and automatic lane keeping). This forum will not address driver workload or driver distraction issues associated with information and entertainment systems.

Through a combination of presentations by invited speakers and group discussions among attendees, the forum participants will focus on:

• Identifying potential human factors safety problems.

• Determining safety-relevant metrics to quantify the problem.

• Determining research needs and identifying best practices and guidelines for system design and operation.

• Identifying stakeholders to sponsor and conduct research.

Examples of potential human factors safety concerns that may be discussed at the forum include:

Unintended Consequences: Drivers may react to the presence of AVST with behaviors that can undermine the potential effectiveness of the technologies. For example, drivers may not respond quickly enough to collision warnings if the system has false alarms or too many warnings. Even if the system is perfect, drivers may over-rely on the technology, increase their risk taking behaviors, and negate any potential safety benefits. Drivers may not understand the system's limitations and trust the system to a point where the system cannot perform to their expectations. For example, some systems only work within specified speed ranges or other limits, but drivers may expect the systems to perform at all speeds and in all conditions. Thus, unintended consequences could result from incorrect driver assumptions and perceptions about system operation.

Design Characteristics: Another human factors concern is the variability in the design of these technologies within and across different vehicle manufacturers. As drivers change between vehicles with new or unfamiliar AVST characteristics or CWS interfaces, there is a potential for negative transfer of learning. That is, drivers may miss or not comprehend an auditory warning from System A because they are accustomed to the warning sound provided by System B.

Driver-centered Design: The forum will also address the issue of how variations in driver performance should be accommodated by system design. Driver performance can vary from person to person, from situation to situation, and from time to time. For example, as a group, older drivers have poorer eyesight, slower reaction times, and a decreased ability to perform multiple tasks simultaneously. Drivers may respond differently in heavy traffic versus light traffic. Tired drivers may behave differently than alert drivers. The intended benefits of AVST may not be achieved unless the systems are designed to accommodate a broad range of the variability in the characteristics of the driving population. The safety concern is that some drivers may not detect warnings, respond appropriately, or turn off systems that are perceived as annoying or useless.

Integrating Multiple Systems: Another forum topic will be the issue of integrated warnings from multiple systems. While integrated systems have the potential to prevent a large portion of crashes, they pose unique design issues (e.g., with what priority should the alarms be presented). The Department of Transportation (DOT) is conducting a large-scale field operational test called Integrated Vehicle-Based Safety Systems (IVBSS) to better understand and evaluate some aspects of warning integration (http://www.its.dot.gov/ivbss/index.htm). However, more discussion is needed to fully address this emerging issue as increasing numbers of AVST are brought into vehicles.

The meeting will be open to the public with advanced registration on a space-available basis. Individuals wishing to register must provide their name, affiliation, phone number, and e-mail address to Aretha Howard at Mitretek System at aretha.howard@mitretek.org or by phone at (202) 551-1112. The meeting will be held at a site accessible to individuals with disabilities. Individuals who require accommodations such as sign language interpreters should contact Mike Perel by January 15, 2007.

A final agenda will be placed in the meeting docket at a later date. Meeting minutes and other information received by NHTSA at the forum also will be available in the meeting docket. Should it be necessary to cancel the meeting due to inclement weather or any other emergencies, a decision to cancel will be made as soon as possible and each registered participant will be notified by e-mail. If you do not have access to e-mail, you may contact Aretha Howard at Mitretek for additional information.

Draft Agenda

January 25, 2007

8 a.m. Registration

Overview/Introduction

8:30 a.m. Opening Remarks—NHTSA Administrator.

8:45 a.m. Meeting Background and Purpose.

Status of Advanced Vehicle Safety Technologies and Human Factors Guidelines

9 a.m. Review of current and future advanced vehicle safety technologies.

9:30 a.m. Review of existing global human factors guidelines for AVST.

10 a.m. Human factors research directions and future needs: Industry views.

10:30 a.m. Break.

10:45 a.m. Human factors research directions and future needs: Government views.

11:15 a.m. Human factors research directions and future needs: Researchers views.

11:45 a.m. Lunch.

Current NHTSA Initiatives

1 p.m. Crash warning system interfaces: Human factors insights and lessons learned—Battelle.

1:30 p.m. Integrated Vehicle Based Safety Systems (IVBSS): Crash Warning Integration Challenges—UMTRI.

1:45 p.m. Cooperative Intersection Collision Avoidance Systems—Virginia Tech.

2 p.m. Other research.

2:15 p.m. Open Discussion (Entire Group).

3 p.m. Afternoon Break.

Future Research

3:15 p.m. Needed research and how do we make it happen?

3:30 p.m. Breakout group discussions: Research needs, methods, metrics, and funding mechanisms.

4:45 p.m. Summary of the Day and Next Steps. 5 p.m. Adjourn.

January 26, 2007

8:30 a.m. Complete breakout group discussions.

10 a.m. Review of breakout group recommendations.

11:30 a.m. Plenary group discussion.

Issued on: November 13, 2006.
Joseph N. Kanianthra,
Associate Administrator for Vehicle Safety Research.

[FR Doc. E6-19562 Filed 11-17-06; 8:45 am]

BILLING CODE 4910-59-P